DEPARTMENT OF COMMERCE

National Institute of Standards and Technology

Manufacturing Extension Partnership National Advisory Board

AGENCY: National Institute of Standards and Technology, Department of Commerce.

ACTION: Notice of partially closed meeting.

SUMMARY: Pursuant to the Federal Advisory Committee Act, 5 U.S.C. app. 2, notice is hereby given that the Manufacturing Extension Partnership National Advisory Board (MEPNAB), National Institute of Standards and Technology (NIST), will meet Thursday, May 10, 2001 from 8 am to 3:30 pm. The MEPNAB is composed of nine members appointed by the Director of NIST who were selected for their expertise in the area of industrial extension and their work on behalf of smaller manufacturers. The Board was established to fill a need for outside input on MEP. MEP is a unique program consisting of centers in all 50 states and Puerto Rico. The centers have been created by state, federal, and local partnerships. The board works closely with MEP to provide input and advice on MEP's programs, plans, and policies. The purpose of this meeting is to look at center marketing and sales operations from the national perspective and what NIST MEP is planning and what best practices can be shared across the system. The Board will also hear progress of MEP's new market research project. Discussions scheduled to begin at 8 am and to end at 9:30 am and to begin at 2:30 pm and to end at 3:30 pm on May 10, 2001, on personnel issues and proprietary budget information will be closed.

DATES: The meeting will convene May 10, 2001 at 8 am and will adjourn at 3:30 pm on May 10, 2001.

ADDRESSES: The meeting will be held at the Gaithersburg Marriott Washingtonian Center, Salon A, 9751 Washingtonian Boulevard, Gaithersburg, Maryland 20878.

FOR FURTHER INFORMATION CONTACT: Linda Acierto, Senior Policy Advisor, Manufacturing Extension Partnership, National Institute of Standards and Technology, Gaithersburg, MD 20899-4800, telephone number (301) 975-5033.

SUPPLEMENTARY INFORMATION: The Assistant Secretary for Administration with the concurrence of the General Counsel formally determined on December 18, 2000, that portions of the meeting which involve discussion of proposed funding of the MEP may be closed in accordance with 5 U.S.C. 552b(c)(9)(B), because that portion will divulge matters the premature disclosure of which would be likely to significantly frustrate implementation of proposed agency actions; and that portions of the meeting which involve discussion of the staffing of positions in MEP may be closed in accordance with 5 U.S.C. 552b(c)(6), because divulging information discussed in that portion of the meeting is likely to reveal information of a personal nature, where disclosure would constitute a clearly unwarranted invasion of personal privacy.

Dated: April 5, 2001.
Karen H. Brown,
Acting Director.

[FR Doc. 01-8914 Filed 4-10-01; 8:45 am]

BILLING CODE 3510-73-M